DEPARTMENT OF COMMERCE

National Oceanic and Atmospheric Administration

50 CFR Part 622

[Docket No. 121004518-3398-01]

RIN 0648-XF005

Reef Fish Fishery of the Gulf of Mexico; 2017 Recreational Accountability Measures and Closure for Gulf of Mexico Gray Triggerfish

AGENCY: National Marine Fisheries Service (NMFS), National Oceanic and Atmospheric Administration (NOAA), Commerce.

ACTION: Temporary rule; closure.

SUMMARY: NMFS implements accountability measures (AMs) for the gray triggerfish recreational sector in the exclusive economic zone (EEZ) of the Gulf of Mexico (Gulf) for the 2017 fishing year through this temporary rule. NMFS has determined that the 2016 recreational annual catch limit (ACL) for Gulf gray triggerfish was exceeded; therefore, NMFS reduces the gray triggerfish recreational ACL and annual catch target (ACT) in 2017. As a result of the recreational ACL and ACT overages in 2016, the gray triggerfish 2017 recreational season in the Gulf EEZ will not open on January 1, 2017, and will remain closed for the entire 2017 fishing year. This closure is necessary to protect the Gulf gray triggerfish resource.

DATES: This rule is effective from 12:01 a.m., local time, January 1, 2017, until 12:01 a.m., local time, January 1, 2018.

FOR FURTHER INFORMATION CONTACT: Rich Malinowski, NMFS Southeast Regional Office, telephone: 727-824-5305, email: rich.malinowski@noaa.gov.

SUPPLEMENTARY INFORMATION: NMFS manages the Gulf reef fish fishery, including gray triggerfish, under the Fishery Management Plan for the Reef Fish Resources of the Gulf (FMP). The Gulf of Mexico Fishery Management Council (Council) prepared the FMP and NMFS implements the FMP under the authority of the Magnuson-Stevens Fishery Conservation and Management Act (Magnuson-Stevens Act) by regulations at 50 CFR part 622. All gray triggerfish weights discussed in this temporary rule are in round weight.

The recreational ACL for Gulf gray triggerfish specified in 50 CFR 622.41(b)(2)(iii) is 241,200 lb (109,406 kg) and the recreational ACT is 217,100 lb (98,475 kg). However, in 2015, gray triggerfish landings exceeded the 2015 ACL by 39,977 lbs. Therefore, the 2016 ACL and ACT were adjusted to 201,223 lb (91,273 kg) and 177,123 lb (80,342 kg), respectively. In 2016, the recreational fishing season did not re-open after the annual spawning season closure from June 1 through July 31, and the recreational harvest of gray triggerfish exceeded the 2016 recreational ACL by 221,213 lb (100,341 kg). Therefore, consistent with the AM requirements specified in 50 CFR 622.41(b)(2)(ii), NMFS reduces the recreational ACL and ACT for gray triggerfish in 2017 by the amount of the recreational ACL overage to 19,987 lb (9,066 kg) and 0 lb (0 kg), respectively.

Under 50 CFR 622.41(b)(2)(i), NMFS is required to close the recreational sector for gray triggerfish when the recreational ACT is reached, or is projected to be reached, by filing a notification to that effect with the Office of the Federal Register. NMFS has determined that the recreational ACT for the 2017 fishing year is 0 lb (0 kg). Therefore, NMFS closes the recreational harvest of gray triggerfish for the 2017 fishing year.

During the recreational closure, the bag and possession limits for gray triggerfish in or from the Gulf EEZ are zero. The prohibition on possession in the Gulf on board a vessel for which a valid Federal charter vessel/headboat permit for Gulf reef fish has been issued applies regardless of whether gray triggerfish were harvested in state or Federal waters.

The recreational sector for gray triggerfish in the Gulf EEZ will reopen on January 1, 2018, the beginning of the 2018 recreational fishing year, unless changed by subsequent notification in the Federal Register.

Classification

The Regional Administrator, Southeast Region, NMFS, has determined this temporary rule is necessary for the conservation and management of Gulf gray triggerfish and is consistent with the Magnuson-Stevens Act and other applicable laws.

This action is taken under 50 CFR 622.41(b)(2)(i) and (ii) and is exempt from review under Executive Order 12866.

These measures are exempt from the procedures of the Regulatory Flexibility Act because the temporary rule is issued without opportunity for prior notice and comment.

This action responds to the best scientific information available. The Assistant Administrator for NOAA Fisheries (AA), finds that the need to immediately implement this action to close the recreational sector for gray triggerfish constitutes good cause to waive the requirements to provide prior notice and opportunity for public comment on this temporary rule pursuant to the authority set forth in 5 U.S.C. 553(b)(B), because such procedures are unnecessary and contrary to the public interest. Such procedures are unnecessary because the rule establishing the closure provisions was subject to notice and comment, and all that remains is to notify the public of the closure. Such procedures are contrary to the public interest because the public requires as much advanced notice as possible of season closures to allow time to adequately plan for recreational fishing trips during the 2017 fishing year.

For the aforementioned reasons, the AA also finds good cause to waive the 30-day delay in the effectiveness of this action under 5 U.S.C. 553(d)(3).

Authority: 16 U.S.C. 1801 et seq.

Dated: November 9, 2016.
Tracey Thompson,
Acting Director, Office of Sustainable Fisheries, National Marine Fisheries Service.

[FR Doc. 2016-27415 Filed 11-9-16; 4:15 pm]

BILLING CODE 3510-22-P